DEPARTMENT OF COMMERCE

National Oceanic and Atmospheric Administration

RIN 0648-XE622

Endangered Species; File No. 20283

AGENCY: National Marine Fisheries Service (NMFS), National Oceanic and Atmospheric Administration (NOAA), Commerce.

ACTION: Notice; receipt of application.

SUMMARY: Notice is hereby given that Demian Chapman, Ph.D., School of Marine and Atmospheric Science, Stony Brook University, Stony Brook, NY 11794, has applied in due form for a permit to import scalloped hammerhead shark (Sphyrna lewini) samples for purposes of scientific research.

DATES: Written, telefaxed, or email comments must be received on or before June 24, 2016.

ADDRESSES: The application and related documents are available for review by selecting “Records Open for Public Comment” from the “Features” box on the Applications and Permits for Protected Species (APPS) home page, https://apps.nmfs.noaa.gov, and then selecting File No. 20283 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 20283 in the subject line of the email comment.

Those individuals requesting a public hearing should submit a written request to the Chief, Permits and Conservation Division at the address listed above. The request should set forth the specific reasons why a hearing on this application would be appropriate.

FOR FURTHER INFORMATION CONTACT: Jennifer Skidmore, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to conduct genetics research on scalloped hammerhead shark (Sphyrna lewini) samples obtained from the Hong Kong fish market in order to assess global trade of shark fins. Samples from up to 200 individuals would be imported to the Florida International University for analysis. The permit is requested for a 2 year period.

Dated: May 19, 2016.
Julia Harrison,
Chief, Permits and Conservation Division, Office of Protected Resources, National Marine Fisheries Service.

[FR Doc. 2016-12286 Filed 5-24-16; 8:45 am]

BILLING CODE 3510-22-P